DEPARTMENT OF EDUCATION

Open Meeting of the National Advisory Council on Indian Education

AGENCY: National Advisory Council on Indian Education (NACIE), U.S. Department of Education.

ACTION: Notice of meeting.

SUMMARY: This notice sets forth the schedule and proposed agenda of an upcoming open meeting of the National Advisory Council on Indian Education (the Council) and is intended to notify the general public of their opportunity to attend. This notice also describes the functions of the Council. Notice of the Council meetings is required under Section 10(a)(2) of the Federal Advisory Committee Act and by the Council's charter.

Agenda: The purpose of the meeting will be to discuss the Annual Report to Congress, and receive updates from the Office of Indian Education (OIE) staff on OIE Formula and Discretionary grant programs, including the OIE National Activities. The Council will also receive a briefing from the Deputy Director on the Best Practice Competition, an OIE program that recognizes successful programs operated by OIE grantees, as the No Child Left Behind Act is implemented in a manner that is consistent with tribal traditions, language and culture. The Council will review and update the NACIE activity plan and receive subcommittee reports.

Date and Time: October 06, 2005; 9 a.m. to 4 p.m.

Location: Adam's Mark Hotel, 1550 Court Place, Denver, Co 80202.

FOR FURTHER INFORMATION CONTACT: Bernard Garcia, Group Leader, Office of Indian Education, U.S. Department of Education, 400 Maryland Avenue, SW., Washington, DC 20202. Telephone: 202-260-1454. Fax: 202-260-7770.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the Elementary and Secondary Education Act (ESEA). On June 30th, the council submitted to the congress a report that included recommendations the Council considers appropriate for the improvement of Federal education programs that include Indian children or adults as participants or that may benefit Indian children or adults, and recommendations concerning the funding of any such program.

The general public is welcome to attend the October 06, 2005 open meeting to be held from 9 a.m. to 4 p.m. Denver, CO. Individuals who need accommodations for a disability in order to participate (i.e., interpreting services, assistive listening devices, materials in alternative format) should notify Bernard Garcia at 202-260-1454 by September 29, 2005. We will attempt to meet requests after this date, but cannot guarantee availability of the requested accommodation. The meeting site is accessible to individuals with disabilities. Records are kept of all Council proceedings and are available for public inspection at the Office of Indian Education, United States Department of Education, Room 5C141, 400 Maryland Avenue, SW., Washington, DC 20202.

Henry L. Johnson,
Assistant Secretary for Elementary and Secondary Education.

[FR Doc. 05-18858 Filed 9-20-05; 8:45 am]

BILLING CODE 4000-01-M